DEPARTMENT OF TRANSPORTATION

Federal Aviation Administration

14 CFR Part 39

[Docket No. FAA-2025-0016; Project Identifier MCAI-2023-01047-T; Amendment 39-23025; AD 2025-09-04]

RIN 2120-AA64

Airworthiness Directives; Bombardier Inc. Airplanes

AGENCY: Federal Aviation Administration (FAA), DOT.

ACTION: Final rule.

SUMMARY: The FAA is adopting a new airworthiness directive (AD) for certain Bombardier Inc. Model BD-700-1A10 and BD-700-1A11 airplanes. This AD was prompted by a determination that new or more restrictive airworthiness limitations are necessary. This AD requires revising the existing maintenance or inspection program, as applicable, to incorporate new or more restrictive airworthiness limitations. The FAA is issuing this AD to address the unsafe condition on these products.

DATES: This AD is effective June 6, 2025.

The Director of the Federal Register approved the incorporation by reference of certain publications listed in this AD as of June 6, 2025.

ADDRESSES:

AD Docket: You may examine the AD docket at regulations.gov under Docket No. FAA-2025-0016; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Bombardier material identified in this AD, contact Bombardier Business Aircraft Customer Response Center, 400 Côte-Vertu Road West, Dorval, Québec H4S 1Y9, Canada; phone 514-855-2999; email ac.yul@aero.bombardier.com; website bombardier.com.

• You may view this material at the FAA, Airworthiness Products Section, Operational Safety Branch, 2200 South 216th St., Des Moines, WA. For information on the availability of this material at the FAA, call 206-231-3195. It is also available at regulations.gov under Docket No. FAA-2025-0016.

FOR FURTHER INFORMATION CONTACT: Mark Taylor, Aviation Safety Engineer, FAA, 1600 Stewart Avenue, Suite 410, Westbury, NY 11590; phone: 516-228-7300; email: 9-avs-nyaco-cos@faa.gov.

SUPPLEMENTARY INFORMATION:

Background

The FAA issued a notice of proposed rulemaking (NPRM) to amend 14 CFR part 39 by adding an AD that would apply to certain Bombardier Inc. Model BD-700-1A10 and BD-700-1A11 airplanes. The NPRM was published in the Federal Register on February 4, 2025 (90 FR 8915). The NPRM was prompted by AD CF-2023-65, dated October 3, 2023, issued by Transport Canada, which is the aviation authority for Canada (also referred to as “the MCAI”). The MCAI states that new or more restrictive airworthiness limitations have been developed.

In the NPRM, the FAA proposed to require revising the existing maintenance or inspection program, as applicable, to incorporate new or more restrictive airworthiness limitations. The FAA is issuing this AD to address new or more restrictive airworthiness limitations. Failure to adhere to the specified airworthiness limitations could adversely affect the stability and controllability of the airplane on landing and could result in damage to the airplane.

You may examine the MCAI in the AD docket at regulations.gov under Docket No. FAA-2025-0016.

Discussion of Final Airworthiness Directive

Comments

The FAA received no comments on the NPRM or on the determination of the costs.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM.

Material Incorporated by Reference Under 1 CFR Part 51

The FAA reviewed the following Bombardier documents:

• Part 2, “Airworthiness Limitations,” of Bombardier Global Express Time Limits/Maintenance Checks (TLMC), Publication No. BD-700 TLMC, Revision 35, dated December 19, 2023. (For obtaining this part of Bombardier Global Express TLMC, Publication No. BD-700 TLMC, use Document Identification No. GL 700 TLMC.)

• Part 2, “Airworthiness Limitations,” of Bombardier Global Express XRS TLMC, Publication No. BD-700 XRS TLMC, Revision 22, dated December 19, 2023. (For obtaining this part of Bombardier Global Express XRS TLMC, Publication No. BD-700 XRS TLMC, use Document Identification No. GL XRS TLMC.)

• Part 2, “Airworthiness Limitations,” of Bombardier Global 6000 TLMC, Publication No. GL 6000 TLMC, Revision 16, dated December 19, 2023.

• Part 2, “Airworthiness Limitations,” of Bombardier Global 6500 TLMC, Publication No. GL 6500 TLMC, Revision 5, dated December 19, 2023.

• Part 2, “Airworthiness Limitations,” of Bombardier Global 5000 TLMC, Publication No. BD-700 TLMC, Revision 26, dated December 19, 2023. (For obtaining this part of Bombardier Global 5000 TLMC, Publication No. BD-700 TLMC, use Document Identification No. GL 5000 TLMC.)

• Part 2, “Airworthiness Limitations,” of Bombardier Global 5500 TLMC, Publication No. GL 5500 TLMC, Revision 5, dated December 19, 2023.

• Part 2, “Airworthiness Limitations,” of Bombardier Global 5000 Featuring Global Vision Flight Deck TLMC, Publication No. GL 5000 GVFD TLMC, Revision 16, dated December 19, 2023.

This material specifies new or more restrictive airworthiness limitations for safe life limits (for certain main landing gear and nose landing gear components) and certification maintenance requirements (for the shock strut axle and service door, pitch trim actuator, and nose landing gear shock-strut assembly to retraction-actuator main-fitting joint). These documents are distinct since they apply to different airplane models in different configurations. This material is reasonably available because the interested parties have access to it through their normal course of business or by the means identified in the ADDRESSES section.

Costs of Compliance

The FAA estimates that this AD affects 484 airplanes of U.S. registry. The FAA estimates the following costs to comply with this AD:

The FAA has determined that revising the maintenance or inspection program takes an average of 90 work-hours per operator, although the agency recognizes that this number may vary from operator to operator. Since operators incorporate maintenance or inspection program changes for their affected fleet(s), the FAA has determined that a per-operator estimate is more accurate than a per-airplane estimate. Therefore, the agency estimates the average total cost per operator to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-09-04 Bombardier Inc.: Amendment 39-23025; Docket No. FAA-2025-0016; Project Identifier MCAI-2023-01047-T.

(a) Effective Date

This airworthiness directive (AD) is effective June 6, 2025.

(b) Affected ADs

None.

(c) Applicability

This AD applies to Bombardier Inc. Model BD-700-1A10 and BD-700-1A11 airplanes, certificated in any category, having serial numbers (S/Ns) 9002 through 9879 inclusive, 9998, and 60001 through 60065 inclusive.

(d) Subject

Air Transport Association (ATA) of America Code 05, Time Limits/Maintenance Checks.

(e) Unsafe Condition

This AD was prompted by a determination that new or more restrictive airworthiness limitations are necessary. The FAA is issuing this AD to address new or more restrictive airworthiness limitations. Failure to adhere to the specified airworthiness limitations could adversely affect the stability and controllability of the airplane on landing and could result in damage to the airplane.

(f) Compliance

Comply with this AD within the compliance times specified, unless already done.

(g) Maintenance or Inspection Program Revision

Within 60 days after the effective date of this AD, revise the existing maintenance or inspection program, as applicable, to incorporate the information specified in the tasks identified in table 1 to paragraph (g) of this AD, of Part 2, “Airworthiness Limitations,” of the applicable time limits/maintenance checks (TLMC) manual identified in table 2 of this AD. The initial compliance time for doing the tasks is at the time specified in the applicable TLMC manual identified in table 2 to paragraph (g) of this AD, or within 60 days after the effective date of this AD, whichever occurs later, except as provided by paragraph (h) of this AD.

Table 1 to Paragraph (g)—New or Revised Tasks
Applicable airplane model (marketing designation) | Chapter 5 task No. | Task title | Affected section
All airplanes | 27-41-09-107 | Restoration of the Pitch Trim Actuator, Part No. GT412-4001-7 | 5-10-20, “Time Limits—Supplementary Limitations”.
All airplanes except Model BD-700-1A10 (Global 6500) airplanes and Model BD-700-1A11 (Global 5500) airplanes | 32-11-17-106 | Discard the Main Landing Gear (MLG) Side-Stay Upper-Pin, Part No. GM227-1725 | 5-10-10, “Life Limits (Structures),” or 5-10-90, “Life Limits (Structures),” as applicable.
All airplanes | 32-21-01-101 | Discard the Nose Landing Gear (NLG) Shock Strut Axle, Part No. 1286-0201/-0203/-0204 | 5-10-10, “Life Limits (Structures),” or 5-10-90, “Life Limits (Structures),” as applicable.
All airplanes except Model BD-700-1A10 (Global 6500) airplanes and Model BD-700-1A11 (Global 5500) airplanes | 32-21-01-103 | Discard the Nose Landing Gear (NLG) Shock Strut Main Fitting, Part No. 1286-0101/-0109 | 5-10-10, “Life Limits (Structures),” or 5-10-90, “Life Limits (Structures),” as applicable.
All airplanes except Model BD-700-1A10 (Global 6500) airplanes and Model BD-700-1A11 (Global 5500) airplanes | 32-21-01-107 | Discard the Nose Landing Gear (NLG) Shock Strut Retraction Actuator Bolt, Part No. 1285-0007/-0041 | 5-10-10, “Life Limits (Structures),” or 5-10-90, “Life Limits (Structures),” as applicable.
All airplanes except Model BD-700-1A10 (Global 6500) airplanes and Model BD-700-1A11 (Global 5500) airplanes | 32-21-01-108 | Discard the Nose Landing Gear (NLG) Shock Strut Steering Actuator Bolt, Part No. 1285-0010 | 5-10-10, “Life Limits (Structures),” or 5-10-90, “Life Limits (Structures),” as applicable.
All airplanes except Model BD-700-1A10 (Global 6500) airplanes and Model BD-700-1A11 (Global 5500) airplanes | 32-21-05-107 | Discard the Nose Landing Gear (NLG) Drag Brace Forward Stabilizer Link, Part No. 22580 | 5-10-10, “Life Limits (Structures),” or 5-10-90, “Life Limits (Structures),” as applicable.
All airplanes except Model BD-700-1A10 (Global 6500) airplanes and Model BD-700-1A11 (Global 5500) airplanes | 32-21-05-108 | Discard the Nose Landing Gear (NLG) Drag Brace Aft Stabilizer Link, Part No. 22585 | 5-10-10, “Life Limits (Structures),” or 5-10-90, “Life Limits (Structures),” as applicable.
All airplanes except Model BD-700-1A10 (Global 6500) airplanes and Model BD-700-1A11 (Global 5500) airplanes | 32-32-01-105 | Discard the Main Landing Gear (MLG) Retraction Actuator Assembly, Part No. 21600 | 5-10-90, “Life Limits (Structures)”.
All airplanes except Model BD-700-1A10 (Global 6500) airplanes and Model BD-700-1A11 (Global 5500) airplanes | 32-32-05-107 | Discard the Main Landing Gear (MLG) Uplock Assembly, Part No. 21900 | 5-10-90, “Life Limits (Structures)”.
All airplanes except Model BD-700-1A10 (Global 6500) airplanes and Model BD-700-1A11 (Global 5500) airplanes | 32-33-01-105 | Discard the Nose Landing Gear (NLG) Retraction Actuator Assembly, Part No. 22400-101/-103 | 5-10-90, “Life Limits (Structures)”.
Model BD-700-1A10 (Global Express and Global Express XRS) airplanes | 32-33-01-111 | Restoration of the Nose Landing Gear (NLG) Shock-Strut Assembly to Retraction-Actuator Main-Fitting Joint (Post SB 700-32-035 Part C) | 5-10-20, “Time Limits—Supplementary Limitations”.
Model BD-700-1A10 (Global 6000) airplanes | 32-33-01-111 | Restoration of the Nose Landing Gear (NLG) Shock-Strut Assembly to Retraction-Actuator Main-Fitting Joint (A/C 9640 and Subs or A/C Post SB 700-32-6011 Part C) | 5-10-20, “Time Limits—Supplementary Limitations”.
Model BD-700-1A10 (Global 6500) airplanes and Model BD-700-1A11 (Global 5500) airplanes | 32-33-01-111 | Restoration of the Nose Landing Gear (NLG) Shock-Strut Assembly to Retraction-Actuator Main-Fitting Joint | 5-10-20, “Time Limits—Supplementary Limitations”.
Model BD-700-1A11 (Global 5000) airplanes | 32-33-01-111 | Restoration of the Nose Landing Gear (NLG) Shock-Strut Assembly to Retraction-Actuator Main-Fitting Joint (Post SB 700-1A11-32-022 Part C) | 5-10-20, “Time Limits—Supplementary Limitations”.
Model BD-700-1A11 (Global 5000 featuring Global Vision Flight Deck (GVFD)) airplanes | 32-33-01-111 | Restoration of the Nose Landing Gear (NLG) Shock-Strut Assembly to Retraction-Actuator Main-Fitting Joint (A/C 9639 and Subs or A/C Post SB 700-32-5011 Part C) | 5-10-20, “Time Limits—Supplementary Limitations”.
All airplanes except Model BD-700-1A10 (Global 6500) airplanes and Model BD-700-1A11 (Global 5500) airplanes | 32-33-05-106 | Discard the Nose Landing Gear (NLG) Uplock Assembly, Part No. 22600-101/-103 | 5-10-90, “Life Limits (Structures)”.
Model BD-700-1A10 (Global Express and Global Express XRS) airplanes | 32-33-01-112 | Detailed Inspection of the Nose Landing Gear (NLG) Shock-Strut Assembly to Retraction-Actuator Main-Fitting Joint (Post SB 700-32-035 Part C) | 5-10-20, “Time Limits—Supplementary Limitations”.
Model BD-700-1A10 (Global 6000) airplanes | 32-33-01-112 | Detailed Inspection of the Nose Landing Gear (NLG) Shock-Strut Assembly to Retraction-Actuator Main-Fitting Joint (A/C 9640 and Subs or A/C Post SB 700-32-6011 Part C) | 5-10-20, “Time Limits—Supplementary Limitations”.
Model BD-700-1A10 (Global 6500) airplanes and Model BD-700-1A11 (Global 5500) airplanes | 32-33-01-112 | Detailed Inspection of the Nose Landing Gear (NLG) Shock-Strut Assembly to Retraction-Actuator Main-Fitting Joint | 5-10-20, “Time Limits—Supplementary Limitations”.
Model BD-700-1A11 (Global 5000) airplanes | 32-33-01-112 | Detailed Inspection of the Nose Landing Gear (NLG) Shock-Strut Assembly to Retraction-Actuator Main-Fitting Joint (Post SB 700-1A11-32-022 Part C) | 5-10-20, “Time Limits—Supplementary Limitations”.
Model BD-700-1A11 (Global 5000 featuring GVFD) airplanes | 32-33-01-112 | Detailed Inspection of the Nose Landing Gear (NLG) Shock-Strut Assembly to Retraction-Actuator Main-Fitting Joint (A/C 9639 and Subs or A/C Post SB 700-32-5011 Part C) | 5-10-20, “Time Limits—Supplementary Limitations”.
Model BD-700-1A10 (Global Express, Global Express XRS, Global 6000, and Global 6500) airplanes | 53-20-00-122 | Detailed Inspection of the Machined Fittings and Skin Around the Service Door, FS295.00 to FS310.00 and STR22R to STR24R | 5-10-30, “Airworthiness Limitation Items”.
All Model BD-700-1A11 (Global 5000, Global 5500, and Global 5000 featuring GVFD) airplanes | 53-20-00-122 | Detailed Inspection of the Machined Fittings and Skin Around the Service Door, FS295.00+32.00 to FS310.00+32.00 and STR22R to STR24R | 5-10-30, “Airworthiness Limitation Items”.
Model BD-700-1A10 (Global Express, Global Express XRS, Global 6000, and Global 6500) airplanes | 53-20-00-140 | Detailed Inspection of the External Skin Around the Service Door Cutout, FS295.00 to FS310.00 and STR22R to STR24R | 5-10-50, “High Altitude Special Conditions Requirements”.
Model BD-700-1A11 (Global 5000, Global 5500, and Global 5000 featuring GVFD) airplanes | 53-20-00-140 | Detailed Inspection of the External Skin Around the Service Door Cutout, FS295.00+32.00 to FS310.00+32.00 and STR22R to STR24R | 5-10-50, “High Altitude Special Conditions Requirements”.

Table 2 to Paragraph (g)—Applicable TLMC Manual
Airplane model (marketing designation) | Title | Revision | Date
Model BD-700-1A10 (Global Express) | Bombardier Global Express TLMC, Publication No. BD-700 TLMC ¹ | 35 | December 19, 2023.
Model BD-700-1A10 (Global Express XRS) | Bombardier Global Express XRS TLMC, Publication No. BD-700 XRS TLMC ² | 22 | December 19, 2023.
Model BD-700-1A10 (Global 6000) | Bombardier Global 6000 TLMC, Publication No. GL 6000 TLMC | 16 | December 19, 2023.
Model BD-700-1A10 (Global 6500) | Bombardier Global 6500 TLMC, Publication No. GL 6500 TLMC | 5 | December 19, 2023.
Model BD-700-1A11 (Global 5000) | Bombardier Global 5000 TLMC, Publication No. BD-700 TLMC ³ | 26 | December 19, 2023.
Model BD-700-1A11 (Global 5500) | Bombardier Global 5500 TLMC, Publication No. GL 5500 TLMC | 5 | December 19, 2023.
Model BD-700-1A11 (Global 5000 featuring GVFD) | Bombardier Global 5000 Featuring Global Vision Flight Deck TLMC, Publication No. GL 5000 GVFD TLMC | 16 | December 19, 2023.
¹ For obtaining the tasks specified in Bombardier Global Express TLMC, Publication No. BD-700 TLMC, use Document Identification No. GL 700 TLMC.
² For obtaining the tasks specified in Bombardier Global Express XRS TLMC, Publication No. BD-700 XRS TLMC, use Document Identification No. GL XRS TLMC.
³ For obtaining the tasks specified in Bombardier Global 5000 TLMC, Publication No. BD-700 TLMC, use Document Identification No. GL 5000 TLMC.

(h) Exception to the Compliance Time for a Certain Task

For Task No. 32-33-01-112 of section 5-10-20, “Time Limits—Supplementary Limitations,” of Part 2, “Airworthiness Limitations,” of the applicable TLMC manual identified in table 2 of this AD: The initial compliance time for doing this task is at the applicable compliance time specified in paragraph (h)(1) or (2) of this AD, or within 60 days after the effective date of this AD, whichever occurs later.

(1) For airplanes that have accomplished Task No. 32-33-01-111, of section 5-10-20, “Time Limits—Supplementary Limitations,” of Part 2, “Airworthiness Limitations,” of the applicable TLMC manual identified in table 2 of this AD, as of the effective date of this AD: Within 1,500 flight hours after the effective date of this AD, or within 1,500 flight cycles (i.e., landings) after the most recent accomplishment of Task No. 32-33-01-111, whichever occurs first.

(2) For airplanes that have not accomplished Task No. 32-33-01-111, of section 5-10-20, “Time Limits—Supplementary Limitations,” of Part 2, “Airworthiness Limitations,” of the applicable TLMC manual identified in table 2 of this AD, as of the effective date of this AD: Within 1,500 flight hours after the effective date of this AD, or before the accumulation of 1,500 total flight cycles (i.e., landings), whichever occurs first.

(i) No Alternative Actions and Intervals

After the existing maintenance or inspection program has been revised as required by paragraph (g) of this AD, no alternative actions (e.g., inspections) or intervals may be used unless the actions and intervals are approved as an alternative method of compliance (AMOC) in accordance with the procedures specified in paragraph (j)(1) of this AD.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (k) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or Bombardier's Transport Canada Design Approval Organization (DAO). If approved by the DAO, the approval must include the DAO-authorized signature.

(k) Additional Information

For more information about this AD, contact Mark Taylor, Aviation Safety Engineer, FAA, 1600 Stewart Avenue, Suite 410, Westbury, NY 11590; phone: 516-228-7300; email: 9-avs-nyaco-cos@faa.gov.

(l) Material Incorporated by Reference

(1) The Director of the Federal Register approved the incorporation by reference of the material listed in this paragraph under 5 U.S.C. 552(a) and 1 CFR part 51.

(2) You must use this material as applicable to do the actions required by this AD, unless this AD specifies otherwise.

(i) Part 2, “Airworthiness Limitations,” of Bombardier Global Express Time Limits/Maintenance Checks (TLMC), Publication No. BD-700 TLMC, Revision 35, dated December 19, 2023.

Note 1 to paragraph (l)(2)(i): For obtaining the information specified in paragraph (l)(2)(i) of this AD for Bombardier Global Express TLMC, Publication No. BD-700 TLMC, use Document Identification No. GL 700 TLMC.

(ii) Part 2, “Airworthiness Limitations,” of Bombardier Global Express XRS TLMC, Publication No. BD-700 XRS TLMC, Revision 22, dated December 19, 2023.

Note 2 to paragraph (l)(2)(ii): For obtaining the information specified in paragraph (l)(2)(ii) of this AD for Bombardier Global Express XRS TLMC, Publication No. BD-700 XRS TLMC, use Document Identification No. GL XRS TLMC.

(iii) Part 2, “Airworthiness Limitations,” of Bombardier Global 6000 TLMC, Publication No. GL 6000 TLMC, Revision 16, dated December 19, 2023.

(iv) Part 2, “Airworthiness Limitations,” of Bombardier Global 6500 TLMC, Publication No. GL 6500 TLMC, Revision 5, dated December 19, 2023.

(v) Part 2, “Airworthiness Limitations,” of Bombardier Global 5000 TLMC, Publication No. BD-700 TLMC, Revision 26, dated December 19, 2023.

Note 3 to paragraph (l)(2)(v): For obtaining the information specified in paragraph (l)(2)(v) of this AD for Bombardier Global 5000 TLMC, Publication No. BD-700 TLMC, use Document Identification No. GL 5000 TLMC.

(vi) Part 2, “Airworthiness Limitations,” of Bombardier Global 5500 TLMC, Publication No. GL 5500 TLMC, Revision 5, dated December 19, 2023.

(vii) Part 2, “Airworthiness Limitations,” of Bombardier Global 5000 Featuring Global Vision Flight Deck TLMC, Publication No. GL 5000 GVFD TLMC, Revision 16, dated December 19, 2023.

(3) For Bombardier material identified in this AD, contact Bombardier Business Aircraft Customer Response Center, 400 Côte-Vertu Road West, Dorval, Québec H4S 1Y9, Canada; phone 514-855-2999; email ac.yul@aero.bombardier.com; website bombardier.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on April 23, 2025.
Steven W. Thompson,
Acting Deputy Director, Compliance & Airworthiness Division, Aircraft Certification Service.

[FR Doc. 2025-07489 Filed 5-1-25; 8:45 am]

BILLING CODE 4910-13-P